NUCLEAR REGULATORY COMMISSION

[Docket No. 70-3103; NRC-2010-0264]

Uranium Enrichment Fuel Cycle Facility Inspection Reports Regarding Louisiana Energy Services LLC, National Enrichment Facility, Eunice, NM, Prior to the Commencement of Operations

AGENCY: Nuclear Regulatory Commission.

ACTION: Notice of availability.

SUMMARY: The U.S. Nuclear Regulatory Commission (NRC) staff has conducted inspections of the Louisiana Energy Services (LES), LLC, National enrichment Facility in Eunice, New Mexico, and has verified that cascades number 1.5, 1.6, 1.7, 1.8, 2.1, and 2.4 as well as autoclave one of the facility have been constructed in accordance with the requirements of the approved license. The NRC staff has prepared inspection reports documenting its findings in accordance with the requirements of the NRC Inspection Manual.

ADDRESSES: Please refer to Docket ID NRC-2010-0264 when contacting the NRC about the availability of information regarding this document. You may access information related to this document, which the NRC possesses and is publicly-available, using the following methods:

• Federal Rulemaking Web site: Go to http://www.regulations.gov and search for Docket ID NRC-2010-0264. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. In addition, for the convenience of the reader, the ADAMS accession numbers are provided in a table in the section of this notice entitled, Availability of Inspection Reports.

• NRC's PDR: You may examine and purchase copies of public documents at the NRC's PDR, Room O1-F21, One White Flint North, 11555 Rockville Pike, Rockville, Maryland 20852.

FOR FURTHER INFORMATION CONTACT: Michael Raddatz, Office of Nuclear Material Safety and Safeguards, U.S. Nuclear Regulatory Commission, Washington, DC 20555-0001; telephone: (301) 492-3108; email: Michael.Raddatz@nrc.gov.

SUPPLEMENTARY INFORMATION:

I. Discussion

The NRC staff has conducted inspections of the Louisiana Energy Services (LES), LLC, National enrichment Facility in Eunice, New Mexico, and has verified that cascades number 1.5, 1.6, 1.7, 1.8, 2.1, and 2.4 as well as autoclave one of the facility have been constructed in accordance with the requirements of the approved license. The NRC staff has prepared inspection reports documenting its findings in accordance with the requirements of the NRC Inspection Manual. As a result of these inspections, on November 15, 2011, the Commission authorized the licensee to start operation of cascade number 1.5. On December 2, 2011, the Commission authorized the licensee to start operation of Autoclave one. On December 21, 2011, the Commission authorized the licensee to start operation of cascade number 1.6. On January 23, 2012, the Commission authorized the licensee to start operation of cascade number 1.7. Finally, on March 1, 2012, the Commission authorized the licensee to start operations of cascades numbered 1.8, 2.1, and 2.4.

The publication of this Notice satisfies the requirements of Title 10 of the Code of Federal Regulations (10 CFR) 70.32 (k) and Section 193(c) of the Atomic Energy Act of 1954, as amended.

The introduction of uranium hexafluoride into any module of the National Enrichment Facility is not permitted until the Commission completes an operational readiness and management measures verification review to verify that management measures that ensure compliance with the performance requirements of 10 CFR 70.61 have been implemented and confirms that the facility has been constructed in accordance with the license and will be operated safely. Subsequent operational readiness and management measures verification reviews will continue throughout the various phases of plant construction and, upon completion of these subsequent phases, additional notices will be posted to verify that the phase in question has been constructed in accordance with the license and to acknowledge licensee readiness for operations.

II. Availability of Inspection Reports

The following table provides the ADAMS accession numbers for the inspection reports prepared by the NRC staff. For information on how to access ADAMS, see the ADDRESSES section of this document.

Inspection Report Nos. | Date | ADAMS Accession No.
70-3103/2012-002 |  | Pending
70-3103/2011-013 | January 25, 2012 | ML12025A286
70-3103/2011-009 | December 8, 2011 | ML11342A131
70-3103/2011-007 | December 16, 2011 | ML11353A102
70-3103/2011-004 | October 28, 2011 | ML11301A218
70-3103/2011-008 | June 15, 2011 | ML111660886
70-3103/2011-002 | April 29, 2011 | ML111190268
70-3103/2010-012 | July 21, 2010 | ML102020385
70-3103/2010-007 | March 31, 2010 | ML100900329
70-3103/2010-005 | March 26, 2010 | ML100850424
70-3103/2009-004 | December 17, 2009 | ML093511013
70-3103/2009-006 | October 8, 2009 | ML092820188
70-3103/2009-003 | September 30, 2009 | ML092730612
70-3103/2009-002 | June 26, 2009 | ML091770643
70-3103/2009-001 | March 26, 2009 | ML090850669
70-3103/2008-006 | March 20, 2009 | ML090790642
70-3103/2008-004 | December 19, 2008 | ML083540709
70-3103/2008-003 | October 30, 2008 | ML083040618
70-3103/2008-002 | July 10, 2008 | ML081930118
70-3103/2008-001 | April 24, 2008 | ML081160345
70-3103/2007-004 | March 7, 2008 | ML080670475
70-3103/2007-003 | November 2, 2007 | ML073060571
70-3103/2007-002 | August 16, 2007 | ML072280647
70-3103/2007-001 | May 24, 2007 | ML071440430
70-3103/2006-001 | January 19, 2007 | ML070190661

Dated at Rockville, Maryland, this 9th day of March 2012.
For the U.S. Nuclear Regulatory Commission.
Brian W. Smith,
Chief, Uranium Enrichment Branch, Division of Fuel Cycle Safety and Safeguards, Office of Nuclear Material Safety and Safeguards.

[FR Doc. 2012-7310 Filed 3-26-12; 8:45 am]

BILLING CODE 7590-01-P